DEPARTMENT OF HEALTH AND HUMAN SERVICES

Administration for Children and Families

Submission for OMB Review; Comment Request

Title: Family Violence Prevention and Services: Grants to States; Native American Tribes and Alaskan Native Villages; and State Domestic Violence Coalitions.

OMB No.: 0970-0280.

Description: The Family Violence Prevention and Services Act (FVPSA), 42 U.S.C. 10401 et seq., authorizes the Department of Health and Human Services to award grants to States, Territories, Tribes or Tribal Organizations, and State Domestic Violence Coalitions for family violence prevention and intervention activities. The proposed information collection activities will be used to make grant award decisions and to monitor grant performance.

Respondents: State Agencies and Territories Administering FVPSA Grants; Tribal Governments and Tribal Organizations; and State Domestic Violence Coalitions.

Annual Burden Estimates
Instrument | Number of respondents | Number of responses per respondent | Average burden hours per response | Total burden hours
State Grant Application | 53 | 1 | 10 | 530
Tribal Grant Application | 200 | 1 | 5 | 1,000
State Domestic Violence Coalition Application | 56 | 1 | 10 | 560
State and Territory FVPSA Grant Performance Progress Report | 57 | 1 | 10 | 570
Tribal FVPSA Grant Performance Progress Report | 200 | 1 | 15 | 3,000

Estimated Total Annual Burden Hours: 5,660.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV, Attn: Desk Officer for the Administration for Children and Families.

Robert Sargis,
Reports Clearance Officer.

[FR Doc. 2011-23276 Filed 9-12-11; 8:45 am]

BILLING CODE 4184-01-P